SECURITIES AND EXCHANGE COMMISSION

[File No. 500-1]

In the Matter of Sierra Resource Group, Inc.; Order of Suspension of Trading

September 29, 2016.

It appears to the Securities and Exchange Commission that there is a lack of current and accurate information concerning the securities of Sierra Resource Group, Inc. (CIK No. 1076966) because it has not filed a periodic report since it filed its Form 10-Q for the period ending September 30, 2013, filed on November 19, 2013. Sierra Resource Group, Inc. is a Nevada corporation with its principal offices in Las Vegas, Nevada. The company's common stock (ticker “SIRG”) is quoted on OTC Link (previously “Pink Sheets”) operated by OTC Markets Group, Inc.

The Commission is of the opinion that the public interest and the protection of investors require a suspension of trading in the securities of Sierra Resource Group, Inc. Therefore, it is ordered, pursuant to Section 12(k) of the Securities Exchange Act of 1934, that trading in the securities of Sierra Resource Group, Inc. is suspended for the period from 9:30 a.m. EDT on September 29, 2016, through 11:59 p.m. EDT on October 12, 2016.

By the Commission.
Brent J. Fields,
Secretary.

[FR Doc. 2016-23996 Filed 9-29-16; 4:15 pm]

BILLING CODE 8011-01-P